DEPARTMENT OF JUSTICE

Antitrust Division

Notice Pursuant to the National Cooperative Research and Production Act of 1993—Petroleum Environmental Research Forum (“PERF”) Project No. 99-13

Notice is hereby given that, on May 15, 2002, pursuant to section 6(a) of the National Cooperative Research and Production Act of 1993, 15 U.S.C. 4301 et seq. (“the Act”), Chevron Texaco Energy Research and Technology Company, a division of Chevron USA, has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identifies of the parties are Chevron Texaco Energy Research and Technology Company, Richmond, CA; BP North America, Inc., Naperville, IL; Unocal, Brea, CA; Canadian Association of Petroleum Producers, Calgary, Alberta, CANADA; and ExxonMobil Production Company, Houston, TX. The nature and objectives of the venture are to identify, develop and/or improve methods for implementing bioavailability, developing risk based screening levels for new types of chemicals and wastes, developing software and analytical tools, and developing communication tools for gaining acceptance of risk assessment both in the U.S. and internationally.

Constance K. Robinson,
Director of Operations, Antitrust Division.

[FR Doc. 02-15239 Filed 6-17-02; 8:45 am]

BILLING CODE 4140-11-M